DEPARTMENT OF ENERGY

Environmental Management Site-Specific Advisory Board, Northern New Mexico

AGENCY: Department of Energy.

ACTION: Notice of Open Meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, May 21, 2014 1:00 p.m.-5:30 p.m.

ADDRESSES: Cities of Gold Conference Center, 10-A Cities of Gold Road, Pojoaque, New Mexico 87506.

FOR FURTHER INFORMATION CONTACT: Menice Santistevan, Northern New Mexico Citizens' Advisory Board (NNMCAB), 94 Cities of Gold Road, Santa Fe, NM 87506. Phone (505) 995-0393; Fax (505) 989-1752 or Email: Menice.Santistevan@nnsa.doe.gov.

SUPPLEMENTARY INFORMATION: Purpose of the Board: The purpose of the Board is to make recommendations to DOE-EM and site management in the areas of environmental restoration, waste management, and related activities.

Tentative Agenda

1:00 p.m. Call to Order by Deputy Designated Federal Officer (DDFO), Lee Bishop; Establishment of a Quorum: Roll Call and Excused Absences, William Alexander; Welcome and Introductions, Carlos Valdez, Chair; Approval of Agenda and March 26, 2014 Meeting Minutes

1:15 p.m. Old Business

• Written Reports

• Report on Environmental Justice Conference, Irene Tse‐Pe and Angel Quintana

• Other Items

1:45 p.m. New Business

• Presentation of Certificates of Appreciation to Student Members, Carlos Valdez

• Report from Nominating Committee, Stephen Schmelling and Angel Quintana

• Other items

2:00 p.m. Update from New Mexico Environment Department, Secretary Ryan Flynn

2:45 p.m. Break

3:05 p.m. Stakeholder Input on Next Cleanup Campaign, Pete Maggiore and Jeff Mousseau

3:30 p.m. Poster Session with Subject Matter Experts

4:45 p.m. Public Comment Period

5:00 p.m. Path Forward for NNMCAB Recommendation, Carlos Valdez

5:15 p.m. Wrap-Up and Comments from NNMCAB Members, Carlos Valdez

5:30 p.m. Adjourn

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.energy.gov/

Issued at Washington, DC on April 16, 2014.
LaTanya R. Butler,
Deputy Committee Management Officer.

[FR Doc. 2014-09121 Filed 4-21-14; 8:45 am]

BILLING CODE 6405-01-P